DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic high strength steel bars ASTM A722M 150 ksi (1⅞ inches in diameter) for emergency repairs of broken eye bars on the San Francisco Oakland Bay Bridge in California. These emergency repairs did not require prior FHWA authorization. The California Department of Transportation (Caltrans) conducted a search and was not able to find a domestic source for the high strength steel bars ASTM A722M 150 ksi (1⅞ inches in diameter). As a result, Caltrans proceeded to utilize a foreign source for this product. Based on the emergency situation, and Caltrans' reasonable efforts to comply with Buy America, the FHWA concludes that a public interest waiver is appropriate for the use of non-domestic high strength steel bars for emergency repairs of broken eye bars on the San Francisco Oakland Bridge in California.

DATES: The effective date of the waiver is July 6, 2010.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., est., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use non-domestic high strength steel bars based on the public interest provision in FHWA's policy.

On October 27, 2009, a repair made during the 2009 Labor Day weekend to a cracked eye bar on the San Francisco Oakland Bay Bridge failed, requiring the closure of the bridge. The San Francisco Oakland Bay Bridge carries over 280,000 vehicles per day creating transportation gridlock in the area. Caltrans' goals were to ensure the safety of the bridge and reopen it as soon as possible through an emergency repair contract. Caltrans contacted four steel fabricators regarding their ability to supply domestic high strength bars to meet the schedule for the emergency repairs. They were unable to find a fabricator who had domestic high strength steel on hand that was able to meet their schedule.

In accordance with Division K, section 130 of the “Consolidated Appropriations Act, 2008” (Pub. L. 110-161), the FHWA published a notice of intent to issue a waiver on its Web site for the high strength steel bars (http://www.fhwa.dot.gov/construction/contracts/waivers.cfm?id=46) on March 22, 2010. The FHWA received four comments in response to the notice. One commenter suggested that Gerdau Ameristeel manufactures the high strength steel bars domestically. Caltrans contacted Gerdau Ameristeel to verify availability of high strength steel bars during the period of emergency repairs. Gerdau Ameristeel indicated that a lead time is required and the high strength steel bars would not have been available for emergency repairs. Two comments were from Caltrans explaining the circumstances surrounding the project, as well as the efforts made by Caltrans in contacting potential domestic manufacturers. The fourth comment expressed general support for the Buy America requirement.

During the 15-day comment period, the FHWA conducted additional nationwide review to locate potential domestic manufacturers for the high strength steel bars. Based on all the information available to the agency, the FHWA concludes that there were no domestic high strength steel bars ASTM A 722M 150ksi (1⅞ inches diameter) readily available for emergency repairs of the broken eye bars.

In accordance with the provisions of section 117 of the SAFETEA-LU Technical Corrections Act of 2008 (Pub. L. 110-244, 122 Stat.1572), the FHWA is providing this notice as its finding that a waiver of Buy America requirements is appropriate. The FHWA invites public comment on this finding for an additional 15 days following the effective date of the finding. Comments may be submitted to the FHWA's Web site via the link provided to the California waiver page noted above.

(Authority: 23 U.S.C. 313; Pub. L. 110-161, 23 CFR 635.410)

Issued on: June 24, 2010.
Victor M. Mendez,
Administrator.

[FR Doc. 2010-16085 Filed 7-1-10; 8:45 am]

BILLING CODE 4910-22-P